DEPARTMENT OF HOMELAND SECURITY

Federal Emergency Management Agency

[Docket ID FEMA-2008-0010]

Board of Visitors for the National Fire Academy

AGENCY: Federal Emergency Management Agency, DHS.

ACTION: Committee management; notice of open federal advisory committee meeting.

SUMMARY: The Board of Visitors for the National Fire Academy (Board) will meet on August 28-29, 2017, in Emmitsburg, Maryland. The meeting will be open to the public.

DATES: The meeting will take place on Monday, August 28, 8:00 a.m. to 5:00 p.m. Eastern Daylight Time and on Tuesday, August 29, 8:00 a.m. to 5:00 p.m. Eastern Daylight Time. Please note that the meeting may close early if the Board has completed its business.

ADDRESSES: The meeting will be held at the National Emergency Training Center, 16825 South Seton Avenue, Building H, Room 300, Emmitsburg, Maryland. Members of the public who wish to obtain details on how to gain access to the facility and directions may contact Ruth MacPhail as listed in the FOR FURTHER INFORMATION CONTACT section by close of business August 18, 2017. Photo identification that meets REAL ID ACT standards (https://www.usfa.fema.gov/training/nfa/admissions/campus_access.html) is required for access. Members of the public may also participate by teleconference and may contact Ruth MacPhail to obtain the call-in number and access code. For information on services for individuals with disabilities or to request special assistance, contact Ruth MacPhail as soon as possible.

To facilitate public participation, we are inviting public comment on the issues to be considered by the Board as listed in the SUPPLEMENTARY INFORMATION section. Comments must be submitted in writing no later than August 18, 2017, must be identified by Docket ID FEMA-2008-0010 and may be submitted by one of the following methods:

• Federal eRulemaking Portal: http://www.regulations.gov. Follow the instructions for submitting comments.

• Email: FEMA-RULES@fema.dhs.gov. Include the docket number in the subject line of the message.

• Mail/Hand Delivery: Ruth MacPhail, 16825 South Seton Avenue, Emmitsburg, Maryland 21727, post-marked no later than August 18, 2017.

Instructions: All submissions received must include the words “Federal Emergency Management Agency” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.”

FOR FURTHER INFORMATION CONTACT:

Alternate Designated Federal Officer: Kirby E. Kiefer, telephone (301) 447-1181, email Kirby.Kiefer@fema.dhs.gov.

Logistical Information: Ruth MacPhail, telephone (301) 447-1333 and email Ruth.Macphail@fema.dhs.gov.

SUPPLEMENTARY INFORMATION: The Board will meet on Monday, August 28, and Tuesday, August 29, 2017. The meeting will be open to the public. Notice of this meeting is given under the Federal Advisory Committee Act, 5 U.S.C. App.

Purpose of the Board

The purpose of the Board is to review annually the programs of the National Fire Academy (Academy) and advise the Administrator of the Federal Emergency Management Agency (FEMA), through the United States Fire Administrator, on the operation of the Academy and any improvements therein that the Board deems appropriate. In carrying out its responsibilities, the Board examines Academy programs to determine whether these programs further the basic missions that are approved by the Administrator of FEMA, examines the physical plant of the Academy to determine the adequacy of the Academy's facilities, and examines the funding levels for Academy programs. The Board submits a written annual report through the United States Fire Administrator to the Administrator of FEMA. The report provides detailed comments and recommendations regarding the operation of the Academy.

Agenda

On Monday, August 28, 2017, there will be three sessions, with deliberations and voting at the end of each session as necessary. The Board will conduct a swearing in of new Board members and will then select a Chairperson and Vice Chairperson for Fiscal Year 2018. The Board will also receive annual ethics training and will tour the campus facility.

1. The Board will discuss deferred maintenance and capital improvements on the National Emergency Training Center campus and Fiscal Year 2017 Budget Request/Budget Planning.

2. The Board will deliberate and vote on recommendations on Academy program activities, including:

• Fire and Emergency Services Higher Education (FESHE) Recognition Program update, a certification program acknowledging that a collegiate emergency services degree meets the minimum standards of excellence established by FESHE development committees and the Academy;

• The National Professional Development Summit Report held on June 14-17, 2017, which brought national training and education audiences together for their annual conference and support initiatives;

• The Managing Officer Program progress report, a multiyear curriculum that introduces emerging emergency services leaders to personal and professional skills in change management, risk reduction, and adaptive leadership;

• Program application selection results;

• The Executive Fire Officer (EFO) Program Symposium held April 21-22-23, 2017, an annual event for alumni which recognizes outstanding applied research completed by present EFO Program participants, recognizes recent EFO Program graduates, provides high-quality presentations offered by private and public sector representatives, facilitates networking between EFO Program graduates, promotes further dialog between EFO Program graduates and U.S. Fire Administrator and National Fire Academy faculty and staff;

• The EFO Program review initiative;

• Curriculum development and revision updates for Academy courses;

• Discussion on the approval process for state-specific courses;

• Online mediated instruction program update;

• Distance learning program update;

• Staffing update.

3. The Board will receive activity reports on the National Fire Incident Reporting System Subcommittee, the Professional Development Initiative Subcommittee, and four EFO Program Subcommittees: Admissions, Curriculum, Delivery and Design, and Evaluations and Outcomes.

On Tuesday, August 29, 2017, the Board will receive updates on U.S. Fire Administration data, research, and response support initiatives and will conduct classroom visits. The Board will also engage in an annual report writing session. Deliberations or voting may occur as needed during the report writing session.

There will be a 10-minute comment period after each agenda item and each speaker will be given no more than 2 minutes to speak. Please note that the public comment period may end before the time indicated, following the last call for comments. Contact Ruth MacPhail to register as a speaker. Meeting materials will be posted at https://www.usfa.fema.gov/training/nfa/about/bov.html by August 14, 2017.

Dated: August 4, 2017.
Kirby E. Kiefer,
Deputy Superintendent, National Fire Academy, United States Fire Administration, Federal Emergency Management Agency.

[FR Doc. 2017-17299 Filed 8-15-17; 8:45 am]

BILLING CODE 9111-45-P